ENVIRONMENTAL PROTECTION AGENCY

[EPA-HQ-OPPT-2003-0006; FRL-8872-5]

Toxic Substances Control Act Chemical Testing; Receipt of Test Data

AGENCY: Environmental Protection Agency (EPA).

ACTION: Notice.

SUMMARY: This notice announces EPA's receipt of test data on five chemicals listed in the Toxic Substances Control Act (TSCA) section 4 test rule titled “In Vitro Dermal Absorption Rate Testing of Certain Chemicals of Interest to the Occupational Safety and Health Administration,” amended by the final rule titled “Revocation of the TSCA Section 4 Testing Requirements for Certain Chemical Substances.”

FOR FURTHER INFORMATION CONTACT: For technical information contact: Kathy Calvo, Chemical Control Division (7405M), Office of Pollution Prevention and Toxics, Environmental Protection Agency, 1200 Pennsylvania Ave., NW., Washington, DC 20460-0001; telephone number: (202) 564-8089; fax number: (202) 564-4765; e-mail address: calvo.kathy@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. This action may, however, be of interest to those persons who are concerned about data on health and/or environmental effects and other characteristics of these chemicals. Since other entities may also be interested, the Agency has not attempted to describe all the specific entities that may be affected by this action. If you have any questions regarding the applicability of this action to a particular entity, consult the person listed under FOR FURTHER INFORMATION CONTACT.

B. How can I get copies of this document and other related information?

All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. Test Data Submissions

EPA received test data on five chemicals listed in the TSCA section 4 test rule titled “In Vitro Dermal Absorption Rate Testing of Certain Chemicals of Interest to the Occupational Safety and Health Administration,” published in the Federal Register issue of April 26, 2004 (69 FR 22402) (FRL-7312-2), and later amended by a final rule titled “Revocation of TSCA Section 4 Testing Requirements for Certain Chemical Substances,” published in the Federal Register issue of April 12, 2006 (71 FR 18650) (FRL-7751-7).

Section 4(d) of TSCA (15 U.S.C. 2603(d)) requires EPA to publish a notice in the Federal Register reporting the receipt of test data submitted pursuant to test rules promulgated under TSCA section 4(a) (15 U.S.C. 2603(a)). Each notice must:

1. Identify the chemical substance or mixture for which data have been received.

2. List the uses or intended uses of such substance or mixture and the information required by the applicable standards for the development of test data.

3. Describe the nature of the test data developed.

The following table contains the information described in this document. See the applicable CFR cite, listed in the table, for test data requirements. EPA has completed its review and evaluation process for these submissions. The reviews have been added to the docket.

Table 1—Data Received in Response to TSCA Section 4 Test Rule at 40 CFR 799.5115, Titled “In Vitro Dermal Absorption Rate Testing of Certain Chemicals of Interest to the Occupational Safety and Health Administration,” Docket ID Number EPA-HQ-OPPT-2003-0006
Chemical identity | Data received | Document No. for the item in docket No. EPA-HQ-OPPT-2003-0006 | Chemical use
Vinylidene chloride (Ethene, 1,1-dichloro-) (CASRN 75-35-4) | Vinylidene Chloride: In Vitro Dermal Absorption Rate Testing | 0354 | Copolymerized with vinyl chloride or acrylonitrile to form various kinds of saran, other copolymers are also made, adhesives, component of synthetic fibers.
Dicyclopentadiene (4,7-Methano-1H-indene, 3a,4,7,7a-tetrahydro-) (CASRN 77-73-6) | Percutaneous Absorption and Cutaneous Disposition of [¹⁴C]-Dicyclopentadiene In Vitro in Human Skin | 0358 | Chemical intermediate for insecticides, ethylene propylene diene monomer (EPDM) elastomers, metallocenes, paints and varnishes, flame retardant for plastics.
Methyl isoamyl ketone (2-Hexanone, 5-methyl-) (CASRN 110-12-3) | Percutaneous Absorption and Cutaneous Disposition of [¹⁴C]-Methyl Isoamyl Ketone In Vitro in Human Skin | 0359 | Solvent for nitrocellulose, cellulose acetate butyrate, acrylics, vinyl copolymers.
Diacetone alcohol (2-Pentanone, 4-hydroxy-4-methyl-) (CASRN 123-42-2) | Percutaneous Absorption and Cutaneous Disposition of [¹⁴C] -Diacetone Alcohol In Vitro in Human Skin | 0360 | Solvent for nitrocellulose, cellulose acetate, various oils, resins, waxes, fats, dyes, tars, lacquers, dopes, coating compositions, wood preservatives, stains, rayon and artificial leather, imitation gold leaf, dyeing mixtures, antifreeze mixtures, extraction of resins and waxes, preservative for animal tissue, metal-cleaning compounds, hydraulic compression fluids, stripping agent (textiles), laboratory reagent. The technical grade containing acetone has greater solvent power.
Cyclohexanol (CASRN 108-93-0) | The In Vitro Dermal Absorption of ¹⁴C-Cyclohexanol through Human Skin | 0371 | Soap making to incorporate solvents and phenolic insecticides; source of adiptic acid for nylon textile finishing; solvent for alkyd and phenotic resins; cellulosics; blending agent for lacquers, paints, and varnishes; finish removers; emulsified products; leather degreasing; polishes; plasticizers; plastics; germicides.
Note: CASRN—Chemical Abstract Service Registry Number; Chemical Use Reference—Hawley's Condensed Chemical Dictionary. Fifteenth Ed. Richard J. Lewis, Sr. Published by John Wiley & Sons, Inc., Hoboken, NJ. 2007.

Authority: 15 U.S.C. 2603.

List of Subjects

Environmental protection, Hazardous substances.

Dated: June 21, 2011.
Maria J. Doa,
Director, Chemical Control Division, Office of Pollution Prevention and Toxics.

[FR Doc. 2011-16183 Filed 6-28-11; 8:45 am]

BILLING CODE 6560-50-P